DEPARTMENT OF TRANSPORTATION

Federal Transit Administration

Notice of Meeting of the Transit Rail Advisory Committee for Safety (TRACS)

AGENCY: Federal Transit Administration, DOT.

Action: Notice of meeting.

SUMMARY: This notice announces a public meeting of the Transit Rail Advisory Committee for Safety (TRACS). TRACS is a Federal Advisory Committee established by the Secretary of the Department of Transportation in accordance with the Federal Advisory Committee Act to provide information, advice, and recommendations to the Secretary and the Federal Transit Administrator on matters relating to the safety of public transportation systems.

DATES: The TRACS meeting will be held on February 23-24, 2012, beginning at 8:30 am.

ADDRESSES: The meeting will be held at MARTA Headquarters, 2424 Piedmont Rd, NE, Atlanta, GA 30324.

FOR FURTHER INFORMATION CONTACT: Iyon Rosario, Office of Safety and Security, Federal Transit Administration, Room E43-435, 1200 New Jersey Avenue SE., Washington, DC, 20590; (202) 366-2010; TRACS@dot.gov.

SUPPLEMENTARY INFORMATION: This notice is provided in accordance with the Federal Advisory Committee Act (Pub. L. 92-463, 5 U.S.C. App.2). TRACS is a Federal Advisory Committee established to provide information, advice, recommendations to the Secretary and the Federal Transit Administrator on matters pertaining to the safety of public transportation systems. TRACS is comprised of 26 members, including 7 new members (listed below), representing a broad base of expertise necessary to discharge its responsibilities. The newest TRACS members are:

Amir Ahmed, Oklahoma State University;

Grace Gallucci, Regional Transportation District;

Susan Hausmann, Texas Department of Transportation;

Phyllis McDonald, John Hopkins University;

Karen Philbrick, Mineta Transportation Institute;

Nagal Shashidara, New Jersey Transit;

George Young, North Carolina Department of Transportation.

The tentative agenda for the meeting of TRACS is set forth below:

Agenda

February 23-24, 2012

1. Facility Use Briefing

2. Welcome Remarks/Introductions

3. Discuss TRACS Taskings

4. Close Call Reporting

5. RX/OTC

6. Public Comments

7. Wrap-Up

This meeting will be open to the public. Members of the public who wish attend the meeting or make an oral statement at the meeting are directed to make a request to Iyon Rosario, Office of Safety and Security, Federal Transit Administration, (202) 366-2010; or at TRACS@dot.gov on or before February 16, 2012. Members of the public may also submit written comments or suggestions concerning the activities of TRACS at any time before or after the meeting at TRACS@dot.gov; or to the U.S. Department of Transportation, Federal Transit Administration, Office of Safety and Security, Room E43-435, 1200 New Jersey Avenue SE., Washington, DC 20590, Attention: Iyon Rosario.

Requests for special accommodations should be directed to Iyon Rosario, at the phone number noted above, or at TRACS@dot.gov, on or before the close of business February 16, 2012.

Minutes of the meeting will be posted at TRACS@dot.gov. Written comments submitted to the Committee will also be posted at the above Web address.

Issued on: February 1, 2012.
Peter Rogoff,
Federal Transit Administrator.

[FR Doc. 2012-2654 Filed 2-3-12; 8:45 am]

BILLING CODE P